INTERNATIONAL TRADE COMMISSION

[Investigation Nos. 701-TA-626 and 731-TA-1452 (Review)]

Certain Collated Steel Staples From China; Determinations

On the basis of the record ¹ developed in the subject five-year reviews, the United States International Trade Commission (“Commission”) determines, pursuant to the Tariff Act of 1930 (“the Act”), that revocation of the countervailing and antidumping duty orders on certain collated steel staples from China would be likely to lead to continuation or recurrence of material injury to an industry in the United States within a reasonably foreseeable time.

¹ The record is defined in § 207.2(f) of the Commission's Rules of Practice and Procedure (19 CFR 207.2(f)).

Background

The Commission instituted these reviews on June 2, 2025 (90 FR 23364) and determined on September 5, 2025, that it would conduct expedited reviews (90 FR 58308, December 16, 2025).

The Commission made these determinations pursuant to section 751(c) of the Act (19 U.S.C. 1675(c)). It completed and filed its determinations in these reviews on January 27, 2026. The views of the Commission are contained in USITC Publication 5698 (January 2026), entitled Certain Collated Steel Staples from China: Investigation Nos. 701-TA-626 and 731-TA-1452 (Review).

By order of the Commission.
Issued: January 27, 2026.
Lisa Barton,
Secretary to the Commission.

[FR Doc. 2026-01840 Filed 1-29-26; 8:45 am]

BILLING CODE 7020-02-P